GENERAL SERVICES ADMINISTRATION

Office of Communications, Cancellation of an Optional Form by the Office of Personnel Management (OPM)

AGENCY: Office of Communications, GSA.

ACTION: Notice.

SUMMARY: The Office of Personnel Management (OPM) cancelled OF 630B, Request to Donate Annual Leave to Leave Recipient (Outside Agency) Under the Leave Transfer Program. The form was only available with FPM Letter 630-33 which no longer exists. OPM developed their own form (OPM 630B) which they are happy to share with you. To obtain a copy of this form, go to the following internet site: http://www.opm.gov/forms

FOR FURTHER INFORMATION CONTACT: Ms. Barbara Williams, General Services Administration, (202) 501-0581.

DATES: Effective September 6, 2001.

Dated: August 28, 2001.
Barbara M. Williams,
Deputy Standard and Optional Forms Management Officer, General Services Administration.

[FR Doc. 01-22411 Filed 9-5-01; 8:45 am]

BILLING CODE 6820-34-M